NATIONAL INDIAN GAMING COMMISSION

Notice of Approved Class III Tribal Gaming Ordinance

AGENCY: National Indian Gaming Commission.

ACTION: Notice.

SUMMARY: The purpose of this notice is to inform the public of the approval of Tulalip Tribes Class III gaming ordinance by the Chairman of the National Indian Gaming Commission.

DATES: This notice is applicable December 12, 2024.

FOR FURTHER INFORMATION CONTACT: Dena Wynn, Office of General Counsel at the National Indian Gaming Commission, 202-632-7003, or by facsimile at 202-632-7066 (not toll-free numbers).

SUPPLEMENTARY INFORMATION: The Indian Gaming Regulatory Act (IGRA) 25 U.S.C. 2701 et seq., established the National Indian Gaming Commission (Commission). Section 2710 of IGRA authorizes the Chairman of the Commission to approve Class II and Class III tribal gaming ordinances. Section 2710(d)(2)(B) of IGRA, as implemented by NIGC regulations, 25 CFR 522.8, requires the Chairman to publish, in the Federal Register, approved Class III tribal gaming ordinances and the approvals thereof.

IGRA requires all tribal gaming ordinances to contain the same requirements concerning tribes' sole proprietary interest and responsibility for the gaming activity, use of net revenues, annual audits, health and safety, background investigations and licensing of key employees and primary management officials. The Commission, therefore, believes that publication of each ordinance in the Federal Register would be redundant and result in unnecessary cost to the Commission.

Thus, the Commission believes that publishing a notice of approved Class III tribal gaming ordinances in the Federal Register, is sufficient to meet the requirements of 25 U.S.C. 2710(d)(2)(B). Every ordinance and approval thereof is posted on the Commission's website (www.nigc.gov) under General Counsel, Gaming Ordinances within five (5) business days of approval.

On December 7, 2023, the Chairman of the National Indian Gaming Commission approved Tulalip Tribes Class III Gaming Ordinance. A copy of the approval letter is posted with this notice and can be found with the approved ordinance on the NIGC's website (www.nigc.gov) under General Counsel, Gaming Ordinances. A copy of the approved Class III ordinance will also be made available upon request. Requests can be made in writing to the Office of General Counsel, National Indian Gaming Commission, Attn: Dena Wynn, 1849 C Street NW, MS #1621, Washington, DC 20240 or at info@nigc.gov.

National Indian Gaming Commission.
Dated: December 12, 2023.
Rea Cisneros,
General Counsel (Acting).

Editorial note: This document was received for publication by the Office of the Federal Register on December 3, 2024.

December 7, 2023

VIA E-MAIL

Chair Teri Gobin

Board of Directors, Tulalip Tribes 6406 Marine Drive

Tulalip, WA 98271

Re: Tulalip Tribes Amended Gaming Ordinance

Dear Chair Gobin:

This letter responds to the September 11, 2023 email submission on behalf of the Tulalip Tribes (Tribes) informing the National Indian Gaming Commission that the Tribes amended its gaming ordinance on September 1, 2023 through Resolution 2023-401. The amendment adds a subsection to the Tribes' ordinance that permits the Tulalip Gaming Agency to issue civil fines to tribal gaming operators, vendors, and manufacturers for failure to comply with the Tribes' gaming compact with the State of Washington.

Thank you for bringing this amendment to our attention and for providing us with a thorough submission of the Tribes' gaming laws and regulations. Please be aware, on August 15, 2023, the NIGC published final rules for Parts 502 (Definitions) and 558 (Gaming Licenses for Key Employees and Primary Management Officials), among other revisions, which became effective on September 14, 2023.1 The Nation's Ordinance does not reflect the recent changes made to the definitions of “key employee” and “primary management official” at 25 CFR 502.14 and 502.19, respectively. However, I have been assured that the Tribes are aware of the changes to NIGC regulations and will incorporate them into the Tribes' gaming ordinance. The Tribes' attorney has indicated that they had attended NIGC's informational session on the regulation changes and will submit additional amendments after tribal leadership has a chance to approve them. As such, the amended ordinance is approved.

If you have any questions, please contact NIGC Staff Attorney Josh Proper at joshua.proper@nigc.gov or 540-760-3026.

Sincerely,

E. Sequoyah Simermeyer, Chairman

1 88 FR 55, 366 (August 15, 2023).

[FR Doc. 2024-28753 Filed 12-11-24; 8:45 am]

BILLING CODE 7565-01-P